DEPARTMENT OF THE INTERIOR

Bureau of Land Management

[ES-956-1910-BJ-5043, ES-051993, Group No. 1, Rhode Island]

Eastern States: Filing of Plat of Survey

AGENCY: Bureau of Land Management, Interior.

ACTION: Notice of filing of plat of survey; Rhode Island.

SUMMARY: The Bureau of Land Management (BLM) will file the plat of survey of the lands described below in the BLM-Eastern States, Springfield, Virginia, 30 calendar days from the date of publication in the Federal Register.

Contact Information: Bureau of Land Management, 7450 Boston Boulevard, Springfield, Virginia 22153. Attn: Cadastral Survey.

SUPPLEMENTARY INFORMATION: The survey was requested by the Bureau of Indian Affairs and the Narragansett Indian Tribe.

The lands we surveyed are:

Trust Lands of the Narragansett Indian Tribe, Washington County, Rhode Island; Survey of the Niles Land, designated Tract No. 8.

The plat of survey represents the survey of the Niles Land, designated Tract No. 8, a portion of the lands held in trust for the Narragansett Indian Tribe in Washington County, Rhode Island, and was accepted September 23, 2003.

We will place a copy of the plat we described in the open files. It will be available to the public as a matter of information. If BLM receives a protest against this survey, as shown on the plat, prior to the date of the official filing, we will stay the filing pending our consideration of the protest. We will not officially file the plat until the day after we have accepted or dismissed all protests and they have become final, including decisions on appeals. Copies of the plat will be made available upon request and prepayment of the reproduction fees.

Dated: June 3, 2008.
Dominica Van Koten,
Acting Chief Cadastral Surveyor.

[FR Doc. E8-12953 Filed 6-9-08; 8:45 am]

BILLING CODE 4310-GJ-P